DEPARTMENT OF STATE

[Public Notice 11051]

Notice of Shipping Coordinating Committee Meeting in Preparation for International Maritime Organization Meeting

The Department of State will conduct a meeting of the Shipping Coordinating Committee at 12 p.m. on March 23, 2020, in room 6i10-01-c of the Douglas A. Munro Coast Guard Headquarters Building at St. Elizabeth's, 2703 Martin Luther King Jr. Avenue SE, Washington, DC 20593.The primary purpose of the meeting is to prepare for the 75th session of the International Maritime Organization's (IMO) Marine Environment Protection Committee to be held at IMO Headquarters, United Kingdom, March 30 to April 3, 2020.

The agenda items to be considered include:

—Adoption of the agenda

—Decisions of other bodies

—Consideration and adoption of amendments to mandatory instruments

—Harmful aquatic organisms in ballast water

—Air pollution prevention

—Energy efficiency of ships

—Reduction of GHG emissions from ships

—Follow-up work emanating from the Action Plan to address marine plastic litter from ships

—Identification and protection of Special Areas, ECAs and PSSAs

—Pollution prevention and response

—Reports of other sub-committees

—Technical cooperation activities for the protection of the marine environment

—Capacity-building for the implementation of new measures

—Work programme of the Committee and subsidiary bodies

—Application of the Committees' Method of Work

—Any other business

—Consideration of the report of the Committee

Members of the public may attend this meeting up to the seating capacity of the room. Upon request to the meeting coordinator, members of the public may also participate via teleconference. To facilitate the building security process, receive the teleconference number, and to request reasonable accommodation, those who plan to attend should contact the meeting coordinator, LCDR Staci Weist, by email at Eustacia.Y.Weist@uscg.mil, by phone at (202) 372-1376, or in writing at 2703 Martin Luther King Jr. Ave. SE, Stop 7509, Washington DC 20593-7509 not later than March 17, 2020, 5 days prior to the meeting. Requests made after March 17, 2020 might not be able to be accommodated. Please note that due to security considerations, two valid, government issued photo identifications must be presented to gain entrance to the Douglas A. Munro Coast Guard Headquarters Building. The Douglas A. Munro Coast Guard Headquarters Building is accessible by taxi, public transportation, and privately owned conveyance (upon request).

In the case of inclement weather where the U.S. Government is closed or delayed, a public meeting may be conducted virtually. The meeting coordinator will confirm whether the virtual public meeting will be utilized. Members of the public can find out whether the U.S. Government is delayed or closed by visiting www.opm.gov/status/.

Jeremy M. Greenwood,
Executive Secretary, Shipping Coordinating Committee, Office of Ocean and Polar Affairs, Department of State.

[FR Doc. 2020-03682 Filed 2-24-20; 8:45 am]

BILLING CODE 4710-09-P